DEPARTMENT OF TRANSPORTATION

Coast Guard

33 CFR Part 117

[CGD08-02-043]

RIN 2115-AE47

Drawbridge Operation Regulation; Mississippi River, Burlington, IA

AGENCY: Coast Guard, DOT.

ACTION: Final rule; correction.

SUMMARY: The Coast Guard published a final rule on December 27, 2002, temporarily changing the regulation governing the Burlington Railroad Drawbridge, Mile 403.1, Upper Mississippi River. The section number for the temporary change was incorrect. This document corrects the section number for the temporary change.

DATES: This correction is effective January 22, 2003.

FOR FURTHER INFORMATION CONTACT: Mr. Roger K. Wiebusch, Eighth Coast Guard District Bridge Branch, Bridge Administrator, (314) 539-3900, extension 2378.

SUPPLEMENTARY INFORMATION:

Background and Purpose

The Coast Guard published a temporary rule in the Federal Register on December 27, (67 FR 78977), adding section 117.T408.

Need for Correction

As published, the section number used in the regulatory text was incorrect.

Correction of Publication

In rule FR Doc. 02-32723 published on December 27, 2002 (67 FR 78977) make the following correction. On page 78978, in the third column, in amendatory instruction 2 and the subsequent section heading, change “117.T408” to read “117.T409”

Dated: January 13, 2003.
Roy J. Casto,
Rear Admiral, U.S. Coast Guard, Commander, Eighth Coast Guard District.

[FR Doc. 03-1351 Filed 1-21-03; 8:45 am]

BILLING CODE 4910-15-P